DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-72, dated October 14, 1980, and corrected at 45 FR 69296, October 20, 1980, as amended most recently at 71 FR 50065, dated August 24, 2006) is amended to reflect the establishment of the Statistical Support Most Efficient Organization within the Division of Surveillance, Hazard Evaluation, and Field Studies, National Institute for Occupational Safety and Health.

Section C-B, Organization and Functions, is hereby amended as follows:

Delete in its entirety the functional statement for the Division of Surveillance, Hazard Evaluation, and Field Studies (CCK) and insert the following: (1) Develops and maintains a surveillance system of the Nation's work force and its environs to make an early detection and continuous assessment of the magnitude and extent of job-related illness, exposures, and hazardous agents; (2) conducts the legislatively mandated health hazard evaluation and industry-wide epidemiological research programs through longitudinal record studies and clinical/environmental field studies and surveys to identify the occupational causes of disease in the working population and their offspring, and to determine the incidence and prevalence of acute and chronic effects from work-related exposures to toxic and hazardous substances; (3) conducts epidemiological research for input to criteria for standards for the control of occupational health hazards; (4) provides statistical support including the collection, processing, compilation, computation, analysis, editing, and/or presentation of statistical data to CDC; and provides, upon request and on a self-initiated basis, technical assistance, demonstrations, and consultation on technical matters pertaining to occupational safety and health to other Federal agencies, state, and local agencies, other agencies, other technical groups, unions, employers, and employees.

Statistical Support Most Efficient Organization (CCKE). (1) Provides statistical support including the collection, processing, compilation, computation, analysis, editing and/or presentation of statistical data; (2) provides technical statistical support to professionals as they analyze and prepare reports on statistical studies and surveys; (3) provides information, reference, and research services; and (4) provided administrative services related to statistical support.

Delete item (5) of the functional statement of the Community Health and Program Services Branch (CUCEG), Division of Adult and Community Health (CUCE), National Center for Chronic Disease Prevention and Health Promotion (CUC), Coordinating Center for Health Promotion (CU), and insert the following: (5) provides professional statistical and programming services to the division, including assistance in design of data collection instruments, computer programming, and statistical analysis.

Delete item (1) of the functional statement for the Information Technology, Statistics, and Surveillance Branch (CUCJD), Division of Reproductive Health (CUCJ), and insert the following: (1) Provides professional statistical and computer services to the division including statistical consultation, systems analysis, technical assistance, and resource identification.

Delete item (6) of the functional statement for the Statistics and Data Management Branch (CVBCG), Division of Sexually Transmitted Disease Prevention (CVBC), National Center for HIV, STD, and TB Prevention (CVB), Coordinating Center for Infectious Diseases (CV), and insert the following: (6) provides data management and professional statistical services for STD surveillance and epidemiologic studies.

Delete item (3) of the functional statement for the Statistics and Data Management Branch (CVBED), Division of HIV/AIDS Prevention-Surveillance and Epidemiology (CVBE), and insert the following: (3) provides data management and statistical services for HIV/AIDS surveillance, HIV serosurveys, epidemiologic studies and other studies conducted within the division and DHAP/IRS.

Dated: October 4, 2006.
William H. Gimson,
Chief Operating Officer, Centers for Disease Control and Prevention (CDC).

[FR Doc. 06-8839 Filed 10-23-06; 8:45 am]

BILLING CODE 4160-18-M